DEPARTMENT OF ENERGY

Invitation for Public Comment on Draft Test Plan for the High Burnup Dry Storage Cask Research and Development Project (CDP)

AGENCY: Fuel Cycle Technologies, Office of Nuclear Energy, Department of Energy.

ACTION: Notice; request for public comments.

SUMMARY: The U.S. Department of Energy (DOE) is providing notice of request for public comment on its draft test plan for the High Burnup Dry Storage Cask Research and Development Project (CDP). The test plan will guide the Department's activities, research, and development throughout the execution of the High Burnup Dry Storage Cask Research and Development Project. The draft test plan places its focus on “why” the project is being performed and “what” the Department plans to accomplish with the CDP. The details on “how” the test plan will be executed will be added when Dominion Virginia Power, who is part of the Electric Power research Institute (EPRI) team, submits a License Amendment Request for the existing North Anna Generating Station Independent Spent Fuel Storage Installation (ISFSI). The License Amendment Request will be submitted to the NRC in the future. The public will be provided an opportunity to provide comments to the NRC on the CDP test plan at that time. The DOE's Office of Used Nuclear Fuel Disposition Research and Development has coordinated this effort in collaboration with its contractor EPRI and several DOE national laboratories. The DOE is seeking public stakeholder comment to ensure CDP resources are invested wisely to achieve measurable improvements in our Nation's data on High Burnup Casks.

DATES: Written comments should be submitted by December 12, 2013. Comments received after this date will be considered if it is practical to do so; however, the DOE is only able to ensure consideration of comments received on or before this date.

ADDRESSES: You may submit comments by any of the following methods:

Electronic Form: Go to http://www.id.energy.gov/insideNEID/PublicInvolvement.htm. Locate the area on the page that pertains to the draft test plan for the High Burnup Dry Storage Cask Research and Development Project (CDP). Click on the link for the electronic comment form. Populate the form and click on “Submit”.

E-Mail: CDP@id.doe.gov.

Mail: U.S. Department of Energy, C/O Melissa Bates, 1955 Freemont Ave., MS 1235, Idaho Falls, ID 83415.

Hand Delivery or Courier: U.S. Department of Energy, Willow Creek Building Ground Floor, Room 185B, 1955 Fremont Ave., Attn: Melissa Bates, Idaho Falls, ID, between 8 a.m. and 3:30 p.m. MT, Monday through Thursday, except Federal holidays.

Fax: 208-526-6249.

FOR FURTHER INFORMATION CONTACT: Mrs. Melissa Bates, Contracting Officers Representative, High Burnup Dry Storage Cask Research and Development Project, U.S. Department of Energy—Idaho Operations Office, MS 1235, 1955 Fremont Ave., Idaho Falls, ID 83415, (208) 526-4652, batesmc@id.doe.gov.

SUPPLEMENTARY INFORMATION: The Department of Energy (DOE) has performed recent assessments focusing on long-term aging issues important to the performance of the structures, systems, and components of the dry cask storage systems for high burnup spent nuclear fuel. A number of technical issues and research and data needs have emerged from these assessments. DOE has determined that a large scale cask research and development project using various configurations of dry storage cask systems and experiments would be beneficial.

A draft test plan for the High Burnup Dry Storage Cask Research and Development Project (CDP) has been drafted by DOE's contractor the Electric Power Research Institute (EPRI) to document what is planned to be accomplished by the CDP. DOE is soliciting comments from the public to obtain feedback on what the Department plans to execute.

A copy of the draft test plan can be found at the following link: http://www.id.energy.gov/insideNEID/PublicInvolvement.htm. Locate the area on the page that pertains to the High Burnup Dry Storage Cask Research and Development Project (CDP). Click on the link for the draft test plan.

Submitting Comments

Stakeholder's comments should be aligned, if possible, with the goals and objectives of the CDP. All comments will be considered that are received by the deadline that appears in the DATES section.

Instructions: Submit comments via any of the mechanisms set forth in the ADDRESSES section above. Identify your name, organization affiliation, comments on the draft test plan, email, and phone number. If an email or phone number is included, it will allow the DOE to contact the commenter if questions or clarifications arise. No responses will be provided to commenters in regards to the disposition of their comments. All comments will be officially recorded without change or edit, including any personal information provided.

Privacy Act: Data collected via the mechanisms listed above will not be protected from the public view in any way. DOE does not intend to publish the comments received externally; however, data collected will be seen by multiple entities while comments are resolved.

Dated: November 5, 2013.
Jay Jones,
Office of Fuel Cycle Technologies, Office of Nuclear Energy.

[FR Doc. 2013-26977 Filed 11-8-13; 8:45 am]

BILLING CODE 6450-01-P